OFFICE OF MANAGEMENT AND BUDGET

Office of Federal Procurement Policy

Cost Accounting Standards Board Meeting Agenda

AGENCY: Cost Accounting Standards Board, Office Federal Procurement Policy, Office of Management and Budget.

ACTION: Notice of agenda for closed Cost Accounting Standards Board meetings.

SUMMARY: The Office of Federal Procurement Policy (OFPP), Cost Accounting Standards Board (CAS Board) is publishing this notice to advise the public of its upcoming meetings. The meetings are closed to the public.

ADDRESSES: New Executive Office Building, 725 17th Street NW, Washington, DC 20503.

FOR FURTHER INFORMATION CONTACT: John L. McClung, Manager, Cost Accounting Standards Board (telephone: 202-881-9758; email: john.l.mcclung2@omb.eop.gov).

SUPPLEMENTARY INFORMATION: The CAS Board is issuing this notice to inform the public of the discussion topics for a monthly meeting that was held in June and for meetings scheduled for July, August, and September 2025. The list of agenda items for these meetings is set forth below. While CAS Board meetings are closed to the public, the Board welcomes comments and inquiries, which may be directed to the manager using the contact information provided above.

Agenda for CAS Board Meetings During the Third and Fourth Quarter, Fiscal Year 2025

1. Statutory CAS Thresholds. The Board will review and discuss the proposal previously transmitted to Congress during the first Trump Administration that would decouple the monetary threshold for CAS applicability from the threshold for Truth in Negotiations Act applicability, increase the basic threshold for CAS applicability, and eliminate the requirement for at least one contract at a minimum value.

2. Regulatory CAS Thresholds. The Board will review options and consider proposed rulemaking to increase the current regulatory threshold for full CAS coverage, which is $50 million (48 CFR 9903.201-2), and the threshold for disclosure requirements, which is $50 million (48 CFR 9903.202-1.) As part of those discussions, the Board will review the approach and recommendation made by the Section 809 Panel.

3. Conformance of CAS to Generally Accepted Accounting Principles (GAAP). 41 U.S.C. 1501(c)(2) requires the CAS Board to review and conform Cost Accounting Standards (CAS), where practicable, to GAAP. The CAS Board will review and resume deliberations on ongoing cases related to CAS 404, 408, 409, and 411 and open cases related to the three additional standards that the Board identified in its 2018 Staff Discussion Paper (84 FR 9143) on CAS-GAAP Harmonization as suitable for conformance (i.e., CAS 407, 415, 416). The Board will also discuss issuance of the final rule addressing the impact of GAAP changes to operating revenue and lease accounting. The Board intends to significantly accelerate work on conformance, in furtherance of the Administration's prioritization on deregulation and reducing unnecessary transaction costs for contracting parties.

4. Cost impact of accounting changes. The Board will discuss the current handling of cost impact in Part 30 of the Federal Acquisition Regulation (FAR) and identify potential options that might be considered as the Federal Acquisition Regulatory Council develops a regulatory deviation to streamline FAR Part 30 in furtherance of Executive Order 14275.

5. Application of CAS to Indefinite Delivery Vehicle (IDVs) contracts. The Board will review options and identify a path forward for clarifying application of CAS to IDVs in a proposed rulemaking including consideration of public comments received from the Staff Discussion Paper 85 FR 51491 (June 18, 2024).

This notice is published pursuant to 41 U.S.C. 1501(d), which requires the CAS Board to publish agendas of its meetings in the Federal Register.

Mathew Blum,
Acting Administrator, Office of Federal Procurement Policy, and Acting Chair, Cost Accounting Standards Board.

[FR Doc. 2025-12292 Filed 7-1-25; 8:45 am]

BILLING CODE 3110-01-P